DEPARTMENT OF COMMERCE

Patent and Trademark Office

Patent Law Treaty

ACTION: Notice of renewal of information collection; request for comment.

SUMMARY: The United States Patent and Trademark Office (USPTO), as required by the Paperwork Reduction Act of 1995, invites comments on the extension of an existing information collection: 0651-0073 (Patent Law Treaty).

DATES: Written comments must be submitted on or before January 21, 2020.

ADDRESSES: You may submit comments by any of the following methods:

• Email: InformationCollection@uspto.gov. Include “0651-0073 comment” in the subject line of the message.

• Federal Rulemaking Portal: http://www.regulations.gov.

• Mail: Marcie Lovett, Records and Information Governance Branch, Office of the Chief Administrative Officer, United States Patent and Trademark Office, P.O. Box 1450, Alexandria, VA 22313-1450.

FOR FURTHER INFORMATION CONTACT: Requests for additional information should be directed to Raul Tamayo, Senior Legal Advisor, Office of Patent Legal Administration, United States Patent and Trademark Office (USPTO), P.O. Box 1450, Alexandria, VA 22313-1450; by telephone at 571-272-7728; or by email at Raul.Tamayo.uspto.gov with “0651-0073 comment” in the subject line. Additional information about this collection is also available at http://www.reginfo.gov under “Information Collection Review.”

SUPPLEMENTARY INFORMATION:

I. Abstract

The Patent Law Treaties Implementation Act of 2012 (PLTIA) amended the patent laws to implement the provisions of the Patent Law Treaty (PLT) in title II. PLT Article 13 provides for the restoration of the right of priority where there is a failure to timely claim priority to the prior application, and also where there is a failure to file the subsequent application within twelve months of the filing date of the priority application. Section 201(c) of the PLTIA amended 35 U.S.C. 119 to provide that the twelve month periods set forth in 35 U.S.C. 119(a) and (e) may be extended by an additional two months if the delay in filing an application claiming priority to a foreign application or the benefit of a provisional application within that twelve-month period was unintentional. In December 2013, the USPTO revised its rules of practice for consistency with the PLT and title II of the PLTIA.

The information in this collection is necessary so that patent applicants and/or patentees may seek restoration of the right of priority to a prior-filed foreign application or of the right to the benefit of a prior-filed provisional application. The USPTO will use the petition to restore the right of priority to a prior-filed foreign application or the right to the benefit of a prior-filed provisional application to determine whether the applicant has satisfied the conditions of the applicable statute (35 U.S.C. 119) and regulation (37 CFR 1.55(c) or 1.78(b)).

The information in this collection can be submitted electronically through EFS-Web, the USPTO's Web-based electronic filing system, as well as on paper. The USPTO is therefore accounting for both electronic and paper submissions in this collection.

II. Method of Collection

Electronically if applicants submit the information using EFS-Web. By mail or hand delivery in paper form.

III. Data

OMB Number: 0651-0073.

Form Number(s): None.

Type of Review: Extension of a currently approved collection.

Affected Public: Individuals or households; businesses or other for-profits; and not-for-profit institutions.

Estimated Number of Respondents: 650 responses per year. The USPTO estimates that 120 responses will be received from small entities.

Estimated Time per Response: Approximately 99% of the total responses for this collection will be submitted electronically. The USPTO estimates it will take approximately 60 minutes (1 hour) to complete the information in this collection, including the time it takes for reading the instructions for the forms, gathering the necessary information, completing the forms, and submitting them to the USPTO. The time per response, estimated annual responses, and estimated annual hour burden associated with each instrument in this collection are shown in the table below.

Estimated Total Annual Respondent Burden Hours: 650 hours.

Estimated Total Annual Respondent (Hourly) Cost Burden: $284,700.00. The USPTO expects that attorneys in private firms will complete these applications. The professional hourly rate for intellectual property attorneys is $438. The attorney rates are found in the 2017 Report of the Economic Survey of the America Intellectual Property Law Association (AIPLA). Using this hourly rate, the USPTO estimates that the total respondent cost burden for this collection is $284,700.00 per year.

IC No. | Item | Hours | Responses (yr) | Burden (hrs/yr) | Rate ($/hr) | Total cost burden
|  | (a) | (b) | (c) = (a x b) | (d) | (e) = (c x d)
1 | Petition to Restore the Right of Priority under 37 CFR 1.55(c) | 1 | 325 | 325 | $438.00 | $142,350.00
2 | Petition to Restore the Benefit of a Prior-Filed Provisional Application under 37 CFR 1.78(b) | 1 | 325 | 325 | 438.00 | 142,350.00
Total |  |  | 650 | 650 |  | 284,700.00

Estimated Total Annual (Non-hour) Respondent Cost Burden: $1,130,076.50, based on filing fees and postage costs.

Filing Fees

There are filing fees associated with this collection. The items with filing fees are listed in the table below.

IC No. | Item | Estimated annual responses | Filing fee ($) | Total non-hour cost burden ($)
|  | (a) | (b) | (a) x (b) = (c)
1 | Grantable Petition to Restore the Right of Priority under 37 CFR 1.55(c) | 250 | $2,000.00 | $500,000.00
2 | Grantable Petition to Restore the Right of Priority under 37 CFR 1.55(c) (small entity) | 55 | 1,000.00 | 55,000.00
3 | Grantable Petition to Restore the Right of Priority under 37 CFR 1.55(c) (micro entity) | 20 | 500.00 | 10,000.00
4 | Grantable Petition to Restore the Benefit of a Prior-Filed Provisional Application under 37 CFR 1.78(b) | 250 | 2,000.00 | 500,000.00
5 | Grantable Petition to Restore the Benefit of a Prior-Filed Provisional Application under 37 CFR 1.78(b) (small entity) | 55 | 1,000.00 | 55,000.00
6 | Grantable Petition to Restore the Benefit of a Prior-Filed Provisional Application under 37 CFR 1.78(b) (micro entity) | 20 | 500.00 | 10,000.00
Total |  | 650 |  | 1,130,000.00

The USPTO estimates that the total non-hour cost burden associated with the filing fees for this collection will be $1,130,000.00

Postage Costs

Customers may incur postage costs when submitting items covered by this collection to the USPTO by mail. The USPTO expects that approximately 99 percent of the responses in this collection will be submitted electronically. Of the remaining 1 percent, the vast majority (98%) will be submitted by mail, for a total of 10 mailed submissions.

The average USPS Priority Mail postage cost for a legal flat rate envelop is estimated to be $7.65. The USPTO estimates that the postage costs for the mailed submissions in this collection will total $76.50.

Therefore, the USPTO estimates that the total annual (non-hour) cost burden for this collection, in the form of fees and postage is $1,130,076.50 per year.

IV. Request for Comments

Comments submitted in response to this notice will be summarized and/or included in the request for OMB approval. All comments will become a matter of public record.

USPTO invites public comments on:

(a) Whether the collection of information is necessary for the proper performance of the functions of the agency, including whether the information will have practical utility;

(b) Accuracy of the agency's estimate of the burden (including hours and cost) of the proposed collection of information, including the validity of the methodology and assumptions used;

(c) Ways to enhance the quality, utility, and clarity of the information to be collected; and

(d) Ways to minimize the burden of the collection of information on respondents, e.g, including through the use of appropriate automated, electronic, mechanical, or other technological collection techniques or other forms of information technology, e.g., permitting electronic submission of responses.

Marcie Lovett,
Records and Information Governance Branch, Office of the Chief Administrative Officer, USPTO.

[FR Doc. 2019-24952 Filed 11-18-19; 8:45 am]

BILLING CODE 1410-30-P